COMMODITY FUTURES TRADING COMMISSION

17 CFR Parts 1, 3, 5, 9, 10, 11, 12, 13, 14, 15, 16, 17, 18, 20, 23, 30, 31, 37, 41, 43, 45, 46, 49, 140, 142, 144, 145, 146, 147, 148, 149, 150, 155, 160, 162, 165, 170, and 171

RIN 3038-AF09

Incorporation of Changes in the Commission's Administrative Structure, Remove Superfluous Verbiage, and Correct Inaccurate Text

AGENCY: Commodity Futures Trading Commission.

ACTION: Final rule.

SUMMARY: The agency's Divisions and Offices have been reorganized at the Chairman's direction, and with prior notification to relevant congressional committees. To ensure the CFR reflects these changes, the Commodity Futures Trading Commission (Commission or CFTC) is voting to make technical changes to various provisions within its regulations in order to align with its change in administrative structure, remove superfluous verbiage, and correct inaccurate text. In addition to the administrative changes required due to the realignment, the Commission is adopting technical changes to ensure consistency in reference to Commission addresses, deleting references to positions that have changed and updating the positions to align with the current Commission structure, correct typographical errors, and other technical changes.

DATES: These amendments are effective on September 4, 2024.

FOR FURTHER INFORMATION CONTACT: Joan Fina, Senior Assistant General Counsel, Telephone: (202) 418-7621, Email: jfina@cftc.gov, Office of the General Counsel, Commodity Futures Trading Commission, Three Lafayette Centre, 1155 21st Street NW, Washington, DC 20581, or John Einstman, Deputy General Counsel (General Law), Telephone: (202) 418-5337, Email: jeinstman@cftc.gov.

SUPPLEMENTARY INFORMATION:

I. Background

An agency reorganization in November 2020 realigned key functions within the agency, including: (1) creating a new Division of Data (DOD); (2) reassigning the Executive Secretariat Branch from the Office of the Executive Director (OED) to the Office of the General Counsel (OGC); and (3) renaming and realigning the Division of Swap Dealer and Intermediary Oversight (DSIO) to the Market Participants Division (MPD) and (4) moving the Office of Customer Education and Outreach (OCEO) to the Office of Public Affairs.

Technology has dramatically altered capital and commodity markets over the past few decades, and technologically induced innovations such as electronic exchanges, high-frequency trading, and exchange-traded funds have made trading faster, cheaper, more integrated, and increasingly complex. As a financial regulator in an ever-increasingly sophisticated market environment, it is becoming more and more crucial that the CFTC continue to focus on data and data reporting and invest in technologies necessary to keep pace with market innovation. Our oversight responsibilities are becoming highly data acquisitive and rely on the effective use of information, including through the use of algorithms and analytics to more effectively manage data to meet our regulatory objectives. The DoD was created to address the Commission's growing data needs and to position the agency to continue to achieve its mission in accord with new technologies.

There has been an unprecedented rise in retail futures, options and digital asset trading. As the agency evolves to address changing markets and market demographics, both the FinTech and customer protection efforts the Office of Customer Education and Outreach (OCEO) were realigned within the Office of Public Affairs.

DSIO is responsible primarily for overseeing derivatives market participants and market intermediaries, including commodity pool operators, commodity trading advisors, futures commission merchants, introducing brokers, retail foreign exchange dealers, swap dealers, and major swap participants, as well as designated self-regulatory organizations. By restyling DSIO as MPD, the Division's name will more succinctly reflect the scope of its responsibility regarding the Commission registrants enumerated above.

The Commission's legal compliance groups that are responsible for records, Freedom of Information Act, Sunshine Act, privacy, and transparency were divided between the Office of the General Counsel and the Executive Secretariat Branch in the Office of the Executive Director. Moving the Executive Secretariat Branch into the Office of the General Counsel ensures consistency through streamlining all legal compliance programs into one division.

In addition to the changes required due to the realignment, the Commission proposes technical changes to ensure consistency in reference to addresses, deletes references to positions that have changed and updates the positions to align with the current Commission structure, correct typographical errors, and other technical changes.

Section 2(a)(12) of the Commodity Exchange Act authorizes the Commission to promulgate such rules and regulations as it deems necessary to govern the operating procedures and conduct of business of the Commission. The Commission is promulgating this rule to reflect changes in its administrative structure and to make conforming technical changes to its regulations.

II. Related Matters

A. Administrative Procedure Act

The amendments to the Commission's regulations in this rulemaking do not establish any new substantive or legislative rules, but rather relate to the restructuring of responsibilities within the Commission, including amendments changing the names of divisions and offices that are affected by the realignment and re-delegating authority to newly formed divisions. The amendments to the Commission's regulations relate solely to agency management, organization, procedure, and practice and provide technical corrections of a minor and administrative nature, such as technical changes to ensure consistency in reference to Commission addresses, to delete references to positions that have changed and to update the positions to align with the current Commission structure, correct typographical errors, and other similar technical corrections. Therefore, this rulemaking is excepted from the public rulemaking provisions of the Administrative Procedure Act.¹ Additionally, an agency may issue a new rule in some circumstances without publication in the Federal Register of a notice of proposed rulemaking with an opportunity for comment if the agency for “good cause” finds (and incorporates the finding and a brief statement of the reasons therefor in the rules issued) that notice and public procedure thereon are impracticable, unnecessary, or contrary to the public interest.² As the revisions to the Commission's regulations in this rulemaking will not cause any party to undertake efforts to comply with the regulations as revised, the Commission has determined to make this rulemaking effective upon publication in the Federal Register.³

¹ 5 U.S.C. 553(a) and (b). Rulemaking procedures apply, except to the extent that there is involved (1) a military or foreign affairs function of the United States; or (2) a matter relating to agency management or personnel or to public property, loans, grants, benefits, or contracts.

² 5 U.S.C 553(b). Further, Section 553(d) of the Administrative Procedure Act, 5 U.S.C. 553(d) provides, in part, for publication of a rule not less than 30 days before its effective date except as otherwise provided by the agency for good cause found and published with the rule.

³ Good cause exists as the final rule implements changes that affect internal agency management, organization and procedure that do not require a delayed effective date.

B. Regulatory Flexibility Act

The Regulatory Flexibility Act requires the Commission to consider whether the regulations it adopts will have a significant economic impact on a substantial number of small entities.⁴ The Commission is obligated to conduct a regulatory flexibility analysis for any rule for which the agency publishes a general notice of proposed rulemaking pursuant to Section 553(b) of the Administrative Procedure Act or any other law.⁵ This rulemaking is excepted from the public rulemaking provisions of the Administrative Procedure Act.⁶ Accordingly, the Commission is not required to conduct a regulatory flexibility analysis for this rulemaking.

⁴ See 5 U.S.C. 601 et seq.

⁵ 5 U.S.C. 601(2).

⁶ See supra notes 1 and 2.

C. Paperwork Reduction Act

The Commission may not conduct or sponsor, and a respondent is not required to respond to, a collection of information contained in a rulemaking unless the information collection displays a currently valid control number issued by the Office of Management and Budget (OMB) pursuant to the Paperwork Reduction Act of 1995 (Paperwork Reduction Act).⁷ This final rule does not contain a “collection of information” as defined in the Paperwork Reduction Act ⁸ and, therefore, is not subject to the requirements of the Paperwork Reduction Act.

⁷ See 44 U.S.C. 3501 et seq.

⁸ “Collection of information” is defined in 44 U.S.C. 3502(3) and 5 CFR 1320.3(c) and includes Agency requests or requirements that members of the public submit reports, keep records, or provide information to a third party.

D. Cost-Benefit Considerations

Section 15(a) of the Commodity Exchange Act provides that, before promulgating a regulation under this Act or issuing an order, the Commission shall consider the costs and benefits of the action of the Commission.⁹ These rules govern internal agency organization, procedure, and practice, and therefore the Commission finds that none of the considerations enumerated in Section 15(a)(2) of the Commodity Exchange Act are applicable to these rules.¹⁰

⁹ 7 U.S.C. 19(a).

¹⁰ Section 15(a)(2) of the Commodity Exchange Act, 7 U.S.C. 19(a)(2), specifies that such costs and benefits shall be evaluated in light of five broad areas of market and public concern: Protection of market participants and the public; efficiency, competitiveness, and financial integrity of futures markets; price discovery; sound risk management practices; and other public interest considerations.

E. Congressional Review Act

This final rule is not a rule as defined in the Congressional Review Act.¹¹

¹¹ See 5 U.S.C. 801-808.

List of Subjects

17 CFR Part 1

Banks, banking, Brokers, Commodity futures, Consumer protection. Reporting and recordkeeping requirements, Savings associations, Swaps.

17 CFR Part 3

Administrative practice and procedure, Commodity futures, Reporting and recordkeeping requirements.

17 CFR Part 5

Commodity futures, Consumer protection, Foreign currencies, Reporting and recordkeeping requirements, Securities, Trade practices.

17 CFR Part 9

Administrative practice and procedure, Reporting and recordkeeping requirements.

17 CFR Part 10

Administrative practice and procedure, Authority delegations (Government agencies), Swaps.

17 CFR Part 11

Administrative practice and procedure, Investigations.

17 CFR Part 12

Administrative practice and procedure, Consumer protection.

17 CFR Part 13

Administrative practice and procedure.

17 CFR Part 14

Administrative practice and procedure, Lawyers.

17 CFR Part 15

Brokers, Reporting and recordkeeping requirements.

17 CFR Part 16

Reporting and recordkeeping requirements.

17 CFR Part 17

Brokers, Reporting and recordkeeping requirements.

17 CFR Part 18

Reporting and recordkeeping requirements.

17 CFR Part 20

Administrative practice and procedure, Reporting and recordkeeping requirements.

17 CFR Part 23

Authority delegations (Government agencies), Banks, banking, Foreign banking, Foreign currencies, Freedom of information, Investments, Reporting and recordkeeping requirements, Securities, Swaps, Trade practices.

17 CFR Part 30

Consumer protection, Fraud.

17 CFR Part 31

Consumer protection, Currency, Fraud, Gold, Reporting and recordkeeping requirements, Silver.

17 CFR Part 37

Commodity futures, Reporting and recordkeeping requirements, Swaps.

17 CFR Part 41

Brokers, Reporting and recordkeeping requirements, Securities.

17 CFR Part 43

Consumer protection, Reporting and recordkeeping requirements, Swaps.

17 CFR Part 45

Swaps.

17 CFR Part 46

Swaps.

17 CFR Part 49

Administrative practice and procedure, Reporting and recordkeeping requirements.

17 CFR Part 140

Authority delegations (Government agencies), Organization and functions (Government agencies).

17 CFR Part 142

Claims, Government employees.

17 CFR Part 144

Administrative practice and procedure, Courts, Government employees.

17 CFR Part 145

Conflicts of interest, Freedom of information.

17 CFR Part 146

Privacy.

17 CFR Part 147

Sunshine Act.

17 CFR Part 148

Claims, Equal access to justice, Lawyers.

17 CFR Part 149

Administrative practice and procedure, Civil rights, Equal employment opportunity, Federal buildings and facilities, Individuals with disabilities.

17 CFR Part 150

Cotton, Grains.

17 CFR Part 155

Brokers, Reporting and recordkeeping requirements.

17 CFR Part 160

Administrative practice and procedure, Brokers, Consumer protection, Privacy, Reporting and recordkeeping requirements.

17 CFR Part 162

Administrative practice and procedure, Brokers, Privacy, Reporting and recordkeeping requirements.

17 CFR Part 165

Administrative practice and procedure, Government employees, Investigations, Whistleblowing.

17 CFR Part 170

Authority delegations (Government agencies), Commodity futures, Reporting and recordkeeping requirements.

17 CFR Part 171

Administrative practice and procedure.

PART 1—GENERAL REGULATIONS UNDER THE COMMODITY EXCHANGE ACT

1. The authority citation for part 1 continues to read as follows:

Authority: 7 U.S.C. 1a, 2, 5, 6, 6a, 6b, 6c, 6d, 6e, 6f, 6g, 6h, 6i, 6k, 6l, 6m, 6n, 6o, 6p, 6r, 6s, 7, 7a-1, 7a-2, 7b, 7b-3, 8, 9, 10a, 12, 12a, 12c, 13a, 13a-1, 16, 16a, 19, 21, 23, and 24 (2012).

§§ 1.12, 1.17, 1.20, 1.26, 1.35, 1.52, 1.65, 1.66, 1.70, and Appendix B [Amended]

2. For each section and paragraph indicated in the left column of the following table, remove the text in the middle column from wherever it appears in the section or paragraph, and add in its place the text indicated in the right column:

Section | Remove | Add
1.12(g)(3) | Director of the Division of Swap Dealer and Intermediary Oversight | Director of the Market Participants Division
1.17(c)(6)(ii)(A) | Director of the Division of Swap Dealer and Intermediary Oversight | Director of the Market Participants Division
1.17(c)(6)(ii)(C) | Director of the Division and Clearing and Intermediary Oversight | Director of the Market Participants Division
1.17(c)(6)(ii)(D) | Director of the Division of Swap Dealer and Intermediary Oversight | Director of the Market Participants Division
1.17(c)(6)(iii)(B) | Director of the Division of Swap Dealer and Intermediary Oversight | Director of the Market Participants Division
1.20(d)(2) | The written acknowledgement must be in the form as set out in Appendix A to this part | The written acknowledgement must be in the form as set out in Appendix A to § 1.20.
1.20(d)(3)(i) | director of the Division of Swap Dealer and Intermediary Oversight | Director of the Market Participants Division
1.20(d)(3)(i) | director's designees | Director's designees
1.20(d)(3)(ii) | director of the Division of Swap Dealer and Intermediary Oversight | Director of the Market Participants Division
1.20(d)(5) | director of the Division of Swap Dealer and Intermediary Oversight | Director of the Market Participants Division
1.20(d)(5) | director of the Division of Clearing and Risk | Director of the Division of Clearing and Risk
1.20(d)(5) | directors' designees | Directors' designees
1.20(d)(6) | director of the Division of Swap Dealer and Intermediary Oversight | Director of the Market Participants Division
1.20(d)(6) | director of the Division of Clearing and Risk | Director of the Division of Clearing and Risk
1.20(d)(6) | directors' designees | Directors' designees
1.20(g)(4)(ii) | The written acknowledgement must be in the form as set out in appendix B to this part | The written acknowledgement must be in the form as set out in Appendix B to § 1.20.
1.20(g)(4)(iv) | director of the Division of Swap Dealer and Intermediary Oversight | Director of the Market Participants Division
1.20(g)(4)(iv) | director of the Division of Clearing and Risk | Director of the Division of Clearing and Risk
1.20(g)(4)(iv) | directors' designees | Directors' designees
1.20, Appendix A | director of the Division of Swap Dealer and Intermediary Oversight | Director of the Market Participants Division
1.20, Appendix A | director of the Division of Clearing and Risk | Director of the Division of Clearing and Risk
1.20, Appendix A | directors' designees | Directors' designees
1.20, Appendix B | director of the Division of Swap Dealer and Intermediary Oversight | Director of the Market Participants Division
1.20, Appendix B | director of the Division of Clearing and Risk | Director of the Division of Clearing and Risk
1.20, Appendix B | directors' designees | Directors' designees
1.26, Appendix A | director of the Division of Swap Dealer and Intermediary Oversight | Director of the Market Participants Division
1.26, Appendix A | director of the Division of Clearing and Risk | Director of the Division of Clearing and Risk
1.26, Appendix A | directors' designees | Directors' designees
1.26, Appendix B | director of the Division of Swap Dealer and Intermediary Oversight | Director of the Market Participants Division
1.26, Appendix B | director of the Division of Clearing and Risk | Director of the Division of Clearing and Risk
1.26, Appendix B | directors' designees | Directors' designees
1.35(a)(9)(iii) | Director of the Division of Swap Dealer and Intermediary Oversight | Director of the Market Participants Division
1.35(a)(9)(iii) | Director may designate from time to time | Director may designate
1.52(c)(2)(iii)(B) | Division of Swap Dealer and Intermediary Oversight | Market Participants Division
1.52(c)(2)(iii)(C) | Division of Swap Dealer and Intermediary Oversight | Market Participants Division
1.52(d)(2)(ii)(G)(2) | Division of Swap Dealer and Intermediary Oversight | Market Participants Division
1.52(d)(2)(ii)(G)(3) | Division of Swap Dealer and Intermediary Oversight | Market Participants Division
1.52(d)(2)(ii)(G)(3) | Division of Swap Dealer and Intermediary's | Market Participants Division's
1.52(d)(2)(iii)(D) | Division of Swap Dealer and Intermediary Oversight | Market Participants Division
1.52(f)(2) | Division of Swap Dealer and Intermediary Oversight | Market Participants Division
1.65(d) | Division of Swap Dealer and Intermediary Oversight | Market Participants Division
1.65(e) | Division of Swap Dealer and Intermediary Oversight | Market Participants Division
1.65(e) | may designate from time to time, | may designate,
1.66(b)(5)(ii) | Division of Swap Dealer and Intermediary Oversight | Market Participants Division
1.70(a)(2) | Commodity Futures Trading Commission, Three Lafayette Centre, 1155 21st Street, NW., Washington, DC 20581 | at the Commission's Washington, DC headquarters
1.70(b)(3) | Commodity Futures Trading Commission, Three Lafayette Centre, 1155 21st Street, NW., Washington, DC 20581 | at the Commission's Washington, DC headquarters
1.70(d) | Commodity Futures Trading Commission, Three Lafayette Centre, 1155 21st Street, NW., Washington, DC 20581 | at the Commission's Washington, DC headquarters
Appendix B to Part 1(c) | Commodity Futures Trading Commission, Three Lafayette Centre, 1155 21st Street, NW., Washington, DC 20581 | at the Commission's Washington, DC headquarters

PART 3—REGISTRATION

3. The authority citation for part 3 continues to read as follows:

Authority: 5 U.S.C. 552, 552b; 7 U.S.C. 1a, 2, 6a, 6b, 6b-1, 6c, 6d, 6e, 6f, 6g, 6h, 6i, 6k, 6m, 6n, 6o, 6p, 6s, 8, 9, 9a, 12, 12a, 13b, 13c, 16a, 18, 19, 21, and 23.

§§ 3.3, 3.22, 3.33, 3.50, 3.55, 3.56, 3.63, 3.70, 3.75, and Appendix A [Amended]

4. For each section and paragraph indicated in the left column of the following table, remove the text in the middle column from wherever it appears in the section or paragraph, and add in its place the text indicated in the right column:

Section | Remove | Add
3.3(h) | Division of Swap Dealer and Intermediary Oversight | Market Participants Division
3.3(h) | Director may designate from time to time | Director may designate
3.22 | Division of Swap Dealer and Intermediary Oversight | Market Participants Division
3.33(e) | Division of Swap Dealer and Intermediary Oversight | Market Participants Division
3.33(e) | Three Lafayette Centre, 1155 21st Street, NW., Washington, DC 20581 | at the Commission's Washington, DC headquarters
3.50(c) | Division of Swap Dealer and Intermediary Oversight | Market Participants Division
3.50(c) | at the Commission's Washington, DC office, Three Lafayette Centre, 1155 21st Street, NW., Washington, DC 20581 | at the Commission's Washington, DC headquarters
3.50(d) | Division of Swap Dealer and Intermediary Oversight | Market Participants Division
3.55(e)(2) | Division of Swap Dealer and Intermediary Oversight | Market Participants Division
3.56(e)(2) | Division of Swap Dealer and Intermediary Oversight | Market Participants Division
3.63 | Division of Swap Dealer and Intermediary Oversight | Market Participants Division
3.70(a) | Division of Swap Dealer and Intermediary Oversight | Market Participants Division
3.70(a) | Washington, DC office | Washington, DC headquarters
3.70(a) | (Attn: Deputy Director, Registration and Compliance Branch, Division of Swap Dealer and Intermediary Oversight Three Lafayette Centre, 1155 21st Street, NW., Washington, DC 20581) | (Attn: Deputy Director, Registration and Compliance Branch, Market Participants Division).
3.75(a) | Division of Swap Dealer and Intermediary Oversight | Market Participants Division
3.75(a) | has been delegated to him | has been delegated to them
Appendix A to Part 3, Footnote 2 | from the Contract Markets Section of the Commission's Division of Swap Dealer and Intermediary Oversight | Commission staff

PART 5—OFF-EXCHANGE FOREIGN CURRENCY TRANSACTIONS

5. The authority citation for part 5 continues to read as follows:

Authority: 7 U.S.C. 1a, 2, 6, 6a, 6b, 6c, 6d, 6e, 6f, 6g, 6h, 6i, 6k, 6m, 6n, 6o, 8, 9, 9a, 12, 12a, 13b, 13c, 16a, 18, 19, 21, and 23.

§§ 5.6, 5.20, and 5.23 [Amended]

6. For each section and paragraph indicated in the left column of the following table, remove the text in the middle column from wherever it appears in the section or paragraph, and add in its place the text indicated in the right column:

Section | Remove | Add
5.6(f)(3) | Division of Swap Dealer and Intermediary Oversight | Market Participants Division
5.6(h) | Division of Swap Dealer and Intermediary Oversight | Market Participants Division
5.6(h) | at the Commission's principal office in Washington, DC | at the Commission's Washington, DC headquarters
5.20(d) (heading) | Division of Swap Dealer and Intermediary Oversight | Market Participants Division
5.20(d) | Division of Swap Dealer and Intermediary Oversight | Market Participants Division
5.23(f) | Deputy Director, Registration and Compliance Section | Deputy Director, Registration and Compliance Branch
5.23(f) | Division of Swap Dealer and Intermediary Oversight | Market Participants Division
5.23(f) | Commodity Futures Trading Commission, Three Lafayette Centre, 1155 21st Street, NW., Washington, DC 20581 | at the Commission's Washington, DC headquarters

PART 9—RULES RELATING TO REVIEW OF EXCHANGE DISCIPLINARY, ACCESS DENIAL OR OTHER ADVERSE ACTIONS

7. The authority citation for part 9 continues to read as follows:

Authority: 7 U.S.C. 1a, 2, 6b-1, 6c, 7, 7a-2, 7b-3, 8, 9, 9a, 12, 12a, 12c, 13b, 16a, 18, 19, and 21.

§§ 9.2, 9.4, 9.26, and 9.31 [Amended]

8. For each section and paragraph indicated in the left column of the following table, remove the text in the middle column from wherever it appears in the section or paragraph, and add in its place the text indicated in the right column:

Section | Remove | Add
9.2(h) | Division of Swap Dealer and Intermediary Oversight and Division of Clearing and Risk | Market Participants Division and/or the Division of Clearing and Risk
9.4(a) | or by mail to: Proceedings Clerk, Office of Proceedings, Commodity Futures Trading Commission, Three Lafayette Centre, 1155 21st Street, NW, Washington, DC 20581 | or by mail to the Proceedings Clerk, Office of Proceedings at the Commission's Washington, DC headquarters
9.26 | Division of Market Oversight and/or the Division of Swap Dealer and Intermediary Oversight and Division of Clearing and Risk | Division of Market Oversight, Market Participants Division, and the Division of Clearing and Risk
9.31(a) | Division of Swap Dealer and Intermediary Oversight | Market Participants Division

PART 10—RULES OF PRACTICE

9. The authority citation in part 10 continues to read as follows:

Authority: Pub. L. 93-463, sec. 101(a)(11), 88 Stat. 1391; 7 U.S.C. 2(a)(12).

§§ 10.2, 10.4, 10.10, 10.12, and 10.106 [Amended]

10. For each section and paragraph indicated in the left column of the following table, remove the text in the middle column from wherever it appears in the section or paragraph, and add in its place the text indicated in the right column:

Section | Remove | Add
10.2(i) | that member of the Commission's staff designated as such in the Commission's Office of Proceedings | any member of the Commission's staff designated as such by the Director of the Office of Proceedings
10.4 | Three Lafayette Centre, 1155 21st Street, NW., Washington, DC 20581 | the Commission's Washington, DC headquarters
10.10(a)(1)(iii) | Deputy General Counsel for Opinions and Review | Deputy General Counsel for Litigation, Enforcement, and Adjudication
10.10(a)(1)(iii) | Office of General Counsel | Office of the General Counsel
10.12(d)(1) | to Proceedings Clerk, Office of Proceedings, Three Lafayette Centre, 1155 21st Street, NW., Washington, DC 20581 | to the Proceedings Clerk, Office of Proceedings at the Commission's Washington, DC headquarters
10.106(b)(3) | Nothwithstanding | Notwithstanding

PART 11—RULES RELATED TO INVESTIGATIONS

11. The authority citation for part 11 continues to read as follows:

Authority: 7 U.S.C. 4a(j), 9, 12, 12a(5) and 15.

§§ 11.2 and 11.7 and Appendix A [Amended]

12. For each section and paragraph indicated in the left column of the following table, remove the text in the middle column from wherever it appears in the section or paragraph, and add in its place the text indicated in the right column:

11.2(b) | Program Coordinator | Principal Deputy Director
11.2(b) | Regional Counsel | Deputy Regional Counsel
11.7(a) | Program Coordinator | Principal Deputy Director
11.7(a) | Regional Counsel of the Division of Enforcement, or a Regional Director of the Commission | Deputy Regional Counsel of the Division of Enforcement
Appendix A | Program Coordinator | Principal Deputy Director
Appendix A | Regional Counsel of the Division, or a Regional Director of the Commission | Deputy Regional Counsel of the Division of Enforcement
Appendix A | Commodity Futures Trading Commission, Three Lafayette Centre, 1155 21st Street, NW., Washington, DC 20581 | at the Commission's Washington, DC headquarters

PART 12—RULES RELATING TO REPARATIONS

13. The authority citation for part 12 continues to read as follows:

Authority: 7 U.S.C. 2(a)(12), 12a(5), and 18.

§§ 12.2, 12.11, 12.13, 12.18, and 12.407 [Amended]

14. For each section and paragraph indicated in the left column of the following table, remove the text in the middle column from wherever it appears in the section or paragraph, and add in its place the text indicated in the right column:

Section | Remove | Add
12.3 | Three Lafayette Centre, 1155 21st Street NW, Washington, DC 20581 | the Commission's Washington, DC headquarters.
12.11(f) | Three Lafayette Centre, 1155 21st Street NW, Washington, DC 20581 | at the Commission's Washington, DC headquarters
12.407(c)(1) | Statisfaction | Satisfaction

15. Section 12.2 is amended by revising the definition of “Proceedings Clerk.” The addition and revision read as follows:

§ 12.2 Definitions.

* * * * *

Proceedings Clerk means any member of the Commission's staff designated as such by the Director of the Office of Proceedings;

* * * * *

16. In § 12.13, paragraph (b)(3) is revised to read as follows:

§ 12.13 Complaint; election of procedure.

* * * * *

(b) * * *

(3) Time and place of filing of complaint. A complaint shall be filed by delivering a copy thereof, in proper form to the Office of Proceedings at the Commission's Washington, DC headquarters. The complaint may be filed in person, during normal business hours, or by certified mail, or registered mail with return receipt requested. The complaint shall not be served on any person or party named therein. Upon the filing of the complaint and the appropriate filing fee, the Proceedings Clerk shall assign a docket number to the matter and shall maintain the official docket.

* * * * *

17. In § 12.18, paragraph (e) is revised to read as follows:

§ 12.18 Answer; election of procedure.

* * * * *

(e) Time and place of filing an answer. An answer shall be filed by delivering a copy thereof, in proper form to the Office of Proceedings at the Commission's Washington, DC headquarters. The answer may be filed in person, during normal business hours, or by certified mail, or registered mail with return receipt requested.

PART 13—PROCEDURES FOR PETITIONS OF RULEMAKING

18. The authority citation for part 13 continues to read as follows:

Authority: 7 U.S.C. 2(a)(12).

§ 13.1 [Amended]

19. In § 13.1, remove “Commodity Futures Trading Commission, Three Lafayette Centre, 1155 21st Street NW, Washington, DC 20581” and add “at the Commission's Washington, DC headquarters” in its place.

PART 14—RULES RELATING TO SUSPENSION OR DISBARMENT FROM APPEARANCE AND PRACTICE

20. The authority citation for part 14 continues to read as follows:

Authority: Pub. L. 93-463, sec. 101(a)(11), 88 Stat. 1391, 7 U.S.C. 4a(j).

§ 14.9 [Amended]

21. In § 14.9, remove “at Three Lafayette Centre, 1155 21st Street NW, Washington, DC 20581” and add “at the Commission's Washington, DC headquarters” in its place.

PART 15—REPORTS—GENERAL PROVISIONS

22. The authority citation for part 15 continues to read as follows:

Authority: 7 U.S.C. 2, 5, 6a, 6c, 6f, 6g, 6i, 6k, 6m, 6n, 7, 7a, 9, 12a, 19, and 21, as amended by Title VII of the Dodd-Frank Wall Street Reform and Consumer Protection Act, Pub. L. 111-203, 124 Stat. 1376 (2010).

§§ 15.05 and 15.06 [Amended]

23. For each section and paragraph indicated in the left column of the following table, remove the text in the middle column from wherever it appears in the section or paragraph, and add in its place the text indicated in the right column:

Section | Remove | Add
15.05(d) | at Three Lafayette Centre, 1155 21st Street NW, Washington, DC 20581 | at the Commission's Washington, DC headquarters
15.05(g) | at Three Lafayette Centre, 1155 21st Street NW, Washington, DC 20581 | at the Commission's Washington, DC headquarters
15.05(i)(2) | at Three Lafayette Centre, 1155 21st Street NW, Washington, DC 20581 | at the Commission's Washington, DC headquarters
15.06(a) | Director of the Division of Market Oversight, to be exercised by such Director or by such other employee or employees of such Director as designated from time to time by the Director | Director of the Division of Data, to be exercised by such Director or by such other employee or employees of such Director as designated, and in consultation with the Director of the Division of Market Oversight

PART 16—REPORTS BY CONTRACT MARKETS AND SWAP EXECUTION FACILITIES

24. The authority citation for part 16 continues to read as follows:

Authority: 7 U.S.C. 2, 6a, 6c, 6g, 6i, 7, and 7b-3.

§ 16.07 [Amended]

25. For each paragraph indicated in the left column of the following table, remove the text in the middle column from wherever it appears in the section or paragraph, and add in its place the text indicated in the right column:

Section | Remove | Add
16.07 (section heading) | Office of Data and Technology | Division of Data
16.07(a) | Office of Data and Technology | Division of Data
16.07(a) | designate from time to time | designate
16.07(a) | designated from time to time | designated
16.07(a) | paragraph (d) of this section to the Director of the Division of Market Oversight, | paragraph (d) of this section to the Director of the Division of Data,
16.07(b) | to, with the concurrence of the Director of the Division of Market Oversight or the Director's delegate, determine | to determine
16.07(c) | to, with the concurrence of the Director of the Division of Market Oversight or the Director's delegate, approve | to approve

PART 17—REPORTS BY REPORTING MARKETS, FUTURES COMMISSION MERCHANTS, CLEARING MEMBERS, AND FOREIGN BROKERS

26. The authority citation for part 17 continues to read as follows:

Authority: 7 U.S.C. 2, 6a, 6c, 6d, 6f, 6g, 6i, 6t, 7, 7a, and 12a.

§ 17.03 [Amended]

27. For each paragraph indicated in the left column of the following table, remove the text in the middle column from wherever it appears in the section or paragraph, and add in its place the text indicated in the right column:

Section | Remove | Add
17.03 (section heading) | Office of Data and Technology | Division of Data
17.03 introductory text | Office of Data and Technology | Division of Data
17.03 introductory text | designated from time to time | designated
17.03(a) | Office of Data and Technology | Division of Data
17.03(b) | Office of Data and Technology | Division of Data
17.03(c) | Office of Data and Technology | Division of Data
17.03(d) | Office of Data and Technology | Division of Data
17.03(e) | Office of Data and Technology | Division of Data
17.03(e) | designate from time to time, | designate,
17.03(f) | Office of Data and Technology | Division of Data
17.03(f) | designate from time to time, | designate,
17.03(g) | Division of Market Oversight | Division of Data
17.03(h) | Division of Market Oversight | Division of Data
17.03(i) | Director of the Office of Data and Technology | Director of the Division of Data

PART 18—REPORTS BY TRADERS

28. The authority citation for part 18 continues to read as follows:

Authority: 7 U.S.C. 2, 4, 5, 6a, 6c, 6f, 6g, 6i, 6k, 6m, 6n, 6t, 12a, and 19.

§ 18.03 [Amended]

29. For each paragraph indicated in the left column of the following table, remove the text in the middle column from wherever it appears in the section or paragraph, and add in its place the text indicated in the right column:

Section | Remove | Add
18.03(a) | designate from time to time. | designate.
18.03(b) | designate from time to time. | designate.
18.03(b) | Office of Data and Technology | Division of Data
18.03(c) | Office of Data and Technology | Division of Data

PART 20—LARGE TRADER REPORTING FOR PHYSICAL COMMODITY SWAPS

30. The authority citation for part 20 continues to read as follows:

Authority: 7 U.S.C. 1a, 2, 5, 6, 6a, 6c, 6f, 6g, 6t, 12a, 19.

§ 20.8 [Amended]

31. For each paragraph indicated in the left column of the following table, remove the text in the middle column from wherever it appears in the section or paragraph, and add in its place the text indicated in the right column:

Section | Remove | Add
20.8(a) | designate from time to time, | designate,
20.8(b) | Director of the Division of Market Oversight | Director of the Division of Data, in consultation with the Director of the Division of Market Oversight
20.8(b) | designate from time to time, | designate,
20.8(c) | designate from time to time, | designate,
20.8(c) | Office of Data and Technology | Division of Data
20.8(d) | Office of Data and Technology, with the concurrence of the Director of the Division of Market Oversight, or such other employee or employees as the Directors each may designate from time to time | Division of Data, or such other employee or employees as the Director may designate
20.8(e) | Office of Data and Technology | Division of Data

PART 23—SWAP DEALERS AND MAJOR SWAP PARTICIPANTS

32. The authority citation for part 23 continues to read as follows:

Authority: 7 U.S.C. 1a, 2, 6, 6a, 6b, 6b-1, 6c, 6p, 6r, 6s, 6t, 9, 9a, 12, 12a, 13b, 13c, 16a, 18, 19, 21.

Section 23.160 also issued under 7 U.S.C. 2(i); Sec. 721(b), Pub. L. 111-203, 124 Stat. 1641 (2010).

§§ 23.23, 23.102, 23.160 and 23.206 [Amended]

33. For each section and paragraph indicated in the left column of the following table, remove the text in the middle column from wherever it appears in the section or paragraph, and add in its place the text indicated in the right column:

Section | Remove | Add
23.23(g)(8) | Division of Swap Dealer and Intermediary Oversight | Market Participants Division
23.23(g)(8) | designate from time to time, | designate,
23.102(e)(3) | Division of Swap Dealer and Intermediary Oversight | Market Participants Division
23.160(c)(7) | Division of Swap Dealer and Intermediary Oversight | Market Participants Division
23.160(c)(7) | designate from time to time, | designate,
23.206 (section heading) | Division of Swap Dealer and Intermediary Oversight | Market Participants Division
23.206(a) | Division of Swap Dealer and Intermediary Oversight | Market Participants Division
23.206(a) | designate from time to time, | designate,
23.206(b) | Division of Swap Dealer and Intermediary Oversight | Market Participants Division

PART 30—FOREIGN FUTURES AND FOREIGN OPTIONS TRANSACTIONS

34. The authority citation for part 30 continues to read as follows:

Authority: 7 U.S.C. 1a, 2, 6, 6c, and 12a, unless otherwise noted.

§§ 30.7 and 30.13 and Appendix E and F [Amended]

35. For each section and paragraph indicated in the left column of the following table, remove the text in the middle column from wherever it appears in the section or paragraph, and add in its place the text indicated in the right column:

Section | Remove | Add
30.7(d)(3)(i) | director of the Division of Swap Dealer and Intermediary Oversight | Director of the Market Participants Division
30.7(d)(3)(i) | director's designees | Director's designees
30.7(d)(3)(ii) | director of the Division of Swap Dealer and Intermediary Oversight | Director of the Market Participants Division
30.7(d)(3)(ii) | director's designees | Director's designees
30.7(d)(5) | director of the Division of Swap Dealer and Intermediary Oversight | Director of the Market Participants Division
30.7(d)(5) | director of the Division of Clearing and Risk | Director of the Division of Clearing and Risk
30.7(d)(5) | directors' designees | Directors' designees
30.7(d)(6) | director of the Division of Swap Dealer and Intermediary Oversight | Director of the Market Participants Division
30.7(d)(6) | director of the Division of Clearing and Risk | Director of the Division of Clearing and Risk
30.7(d)(6) | directors' designees | Directors' designees
30.13(f)(1) | Office of General Counsel | Office of the General Counsel
30.13(n) | Office of General Counsel | Office of the General Counsel
30.13(o) | Director of Market Oversight or his designee, | Director of the Division of Market Oversight or their designee,
30.13(o) | the General Counsel or his designee | the General Counsel or their designee
Appendix E | director of the Division of Swap Dealer and Intermediary Oversight | Director of the Market Participants Division
Appendix E | director of the Division of Clearing and Risk | Director of the Division of Clearing and Risk
Appendix E | directors' designees | Directors' designees
Appendix F | director of the Division of Swap Dealer and Intermediary Oversight | Director of the Market Participants Division
Appendix F | director of the Division of Clearing and Risk | Director of the Division of Clearing and Risk
Appendix F | directors' designees | Directors' designees

PART 31—LEVERAGE TRANSACTIONS

36. The authority citation for part 31 continues to read as follows:

Authority: 7 U.S.C. 12a and 23, unless otherwise noted.

37. In § 31.13, revise paragraph (n) and the undesignated text following paragraph (n)(1) to read as follows:

§ 31.13 Financial reports of leverage transaction merchants.

* * * * *

(n) * * *

(1) Until such time as the Commission orders, otherwise, the Commission hereby delegates to the Director of the Market Participants Division or their designee the authority to perform all functions reserved to the Commission in this section.

(2) The Director of the Market Participants Division may submit to the Commission for its consideration any matter which has been delegated to them pursuant to paragraph (n)(1) of this section.

§§ 31.14, 31.28 and Appendix A [Amended]

38. For each section and paragraph indicated in the left column of the following table, remove the text in the middle column from wherever it appears in the section or paragraph, and add in its place the text indicated in the right column:

Section | Remove | Add
31.14(a) | Division of Swap Dealer and Intermediary Oversight | Market Participants Division
31.28(j) | give telegraphic notice of that event to the principal office of the Commission in Washington, DC | give electronic notice of that event to MPDAlerts@cftc.gov
Appendix A | attention of the Office of the Secretariat, Commodity Futures Trading Commission, Three Lafayette Centre, 1155 21st Street NW, Washington, DC 20581 | Commission at its Washington, DC headquarters, Attn: Financial Management Branch

PART 37—SWAP EXECUTION FACILITIES

39. The authority citation for part 37 continues to read as follows:

Authority: 7 U.S.C. 1a, 2, 5, 6, 6c, 7, 7a-2, 7b-3, and 12a, as amended by Titles VII and VIII of the Dodd-Frank Wall Street Reform and Consumer Protection Act, Pub. L. 111-203, 124 Stat. 1376.

§ 37.3 [Amended]

40. In § 37.3(h), remove “General Counsel's delegate” and add “General Counsel's designee” in its place.

PART 41—SECURITY FUTURES PROJECTS

41. The authority citation for part 41 continues to read as follows:

Authority: Sections 206, 251 and 252, Pub. L. 106-554, 114 Stat. 2763, 7 U.S.C. 1a, 2, 6f, 6j, 7a-2, 12a; 15 U.S.C. 78g(c)(2).

42. Amend § 41.3 by revising paragraph (d) to read as follows:

§ 41.3 Application for an exemptive order pursuant to section 4f(a)(4)(B) of the Act.

* * * * *

(d) An application for an order must be submitted to the Director of the Market Participants Division, at the Commission's Washington, DC headquarters if in paper form, or to MPDletters@cftc.gov if submitted via electronic mail.

* * * * *

PART 43—REAL-TIME PUBLIC REPORTING

43. The authority citation for part 43 continues to read as follows:

Authority: 7 U.S.C. 2(a), 12a(5) and 24a, as amended by Pub. L. 111-203, 124 Stat. 1376 (2010).

44. In § 43.3, revise paragraph (e)(1)(ii) to read as follows:

§ 43.3 Method and timing for real-time public reporting.

* * * * *

(e) * * *

(1) * * *

(ii) Notification of failure to timely correct. If the swap execution facility, designated contract market, or reporting counterparty will, for any reason, fail to timely correct an error, the swap execution facility, designated contract market, or reporting counterparty shall notify the Director of the Division of Data, or such other employee or employees of the Commission as the Director may designate. The notification shall be in the form and manner, and according to the instructions, specified by the Director of the Division of Data in concurrence with the Director of the Division of Market Oversight, or such other employee or employees of the Commission as the respective Director may designate. Unless otherwise instructed by the Director of the Division of Data, or such other employee or employees of the Commission as the Director may designate from time to time, the notification shall include an initial assessment of the scope of the error or errors that were discovered, and shall include any initial remediation plan for correcting the error or errors, if an initial remediation plan exists. This notification shall be made within 12 hours of the swap execution facility's, designated contract market's, or reporting counterparty's determination that it will fail to timely correct the error.

* * * * *

§ 43.7 [Amended]

45. For each paragraph indicated in the left column of the following table, remove the text in the middle column from wherever it appears in the section or paragraph, and add in its place the text indicated in the right column:

Section | Remove | Add
43.7(a) | the Director of the Division of Market Oversight | the Director of the Division of Data
43.7(a) | designate from time to time | designate
43.7(b) | The Director of the Division of Market Oversight may | The Director of the Division of Data may

PART 45—SWAP DATA RECORDKEEPING AND REPORTING REQUIREMENTS

46. The authority citation for part 45 continues to read as follows:

Authority: 7 U.S.C. 6r, 7, 7a-1, 7b-3, 12a, and 24a, as amended by Title VII of the Wall Street Reform and Consumer Protection Act of 2010, Pub. L. 111-203, 124 Stat. 1376 (2010), unless otherwise noted.

47. In § 43.14, revise paragraph (a)(1)(ii) to read as follows:

§§ 45.14 Correcting errors in swap data and verification of swap data accuracy.

(a) * * *

(1) * * *

(ii) Notification of failure to timely correct. If the swap execution facility, designated contract market, or reporting counterparty will, for any reason, fail to timely correct an error, the swap execution facility, designated contract market, or reporting counterparty shall notify the Director of the Division of Data, or such other employee or employees of the Commission as the Director may designate. The notification shall be in the form and manner, and according to the instructions, specified by the Director of the Division of Data in concurrence with the Director of the Division of Market Oversight, or such other employee or employees of the Commission as the respective Director may designate. Unless otherwise instructed by the Director of the Division of, the notification shall include an initial assessment of the scope of the error or errors that were discovered, and shall include any initial remediation plan for correcting the error or errors, if an initial remediation plan exists. This notification shall be made within 12 hours of the swap execution facility's, designated contract market's, or reporting counterparty's determination that it will fail to timely correct the error.

* * * * *

48. In § 43.15, revise paragraphs (a) introductory text, (a)(4), (b) introductory text, and (b)(4) to read as follows:

§ 45.15 Delegation of authority.

(a) Delegation of authority to the Director of the Division of Data. The Commission hereby delegates to its Director of the Division of Data, until the Commission orders otherwise, the authority set forth in paragraph (a) of this section, to be exercised by the Director of the Division of Data or by such other employee or employees of the Commission as may be designated by the Director of the Division of Data. The Director of the Division of Data may submit to the Commission for its consideration any matter which has been delegated in this paragraph. Nothing in this paragraph prohibits the Commission, at its election, from exercising the authority delegated in this paragraph. The authority delegated to the Director of the Division of Data by this paragraph (a) shall include:

* * * * *

(4) The Director of the Division of Data shall publish in the Federal Register and on the website of the Commission the format, data schema, electronic data transmission methods and procedures, and dates and times for reporting acceptable to the Commission with respect to swap data reporting pursuant to § 45.11.

(b) Delegation of authority to the Director of the Division of Data. The Commission hereby delegates to the Director of the Division of Data, until the Commission orders otherwise, the authority set forth in § 45.13(a)(1), to be exercised by the Director of the Division of Data or by such other employee or employees of the Commission as may be designated by the Director of the Division of Data. The Director of the Division of Data may submit to the Commission for its consideration any matter which has been delegated pursuant to this paragraph. Nothing in this paragraph prohibits the Commission, at its election, from exercising the authority delegated in this paragraph. The authority delegated to the Director of the Division of Data by this paragraph (b) shall include:

* * * * *

(4) The Director of the Division of Data shall publish from time to time in the Federal Register and on the website of the Commission the technical specifications for swap data reporting pursuant to § 45.13(a)(1).

PART 46—SWAP DATA RECORDKEEPING AND REPORTING REQUIREMENTS: PRE-ENACTMENT AND TRANSITION SWAPS

49. The authority citation for part 46 continues to read as follows:

Authority: Title VII, sections 723 and 729, Pub. L. 111-203, 124 Stat. 1738.

50. Amend § 46.8 by:

a. Revising paragraph (c) introductory text; and

b. In paragraph (d), removing the term “Chief Information Officer” and adding, in its place, the term, “Director of the Division of Data”.

The revision reads as follows:

§ 46.8 Data reporting for swaps in a swap asset class not accepted by any swap data repository.

* * * * *

(c) Delegation of authority to the Director of the Division of Data: The Commission hereby delegates to its Director of the Division of Data, until the Commission orders otherwise, the authority set forth in this paragraph (c), to be exercised by the Director of the Division of Data or by such other employee or employees of the Commission as may be designated by the Director of the Division of Data. The Director of the Division of Data may submit to the Commission for its consideration any matter which has been delegated in this paragraph. Nothing in this paragraph prohibits the Commission, at its election, from exercising the authority delegated in this paragraph. The authority delegated to the Director of the Division of Data by paragraph (c) of this section shall include:

* * * * *

PART 49—SWAP DATA REPOSITORIES

51. The authority citation for part 49 continues to read as follows:

Authority: 7 U.S.C. 1a, 2(a), 6r, 12a, and 24a, as amended by Title VII of the Wall Street Reform and Consumer Protection Act of 2010, Pub. L. 111-203, 124 Stat. 1376 (Jul. 21, 2010), unless otherwise noted.

52. § 49.31 is revised to read as follows:

§ 49.31 Delegation of authority to the Directors of the Division of Market Oversight and Division of Data relating to certain part 49 matters.

(a) The Commission hereby delegates, until such time as the Commission orders otherwise, the following functions to the Director of the Division of Market Oversight and to such members of the Commission staff acting under their direction as they may designate:

(1) All functions reserved to the Commission in § 49.5.

(2) All functions reserved to the Commission in § 49.12.

(3) All functions reserved to the Commission in § 49.13.

(4) All functions reserved to the Commission in § 49.16.

(5) All functions reserved to the Commission in § 49.17.

(6) All functions reserved to the Commission in § 49.18.

(7) All functions reserved to the Commission in § 49.22.

(8) All functions reserved to the Commission in § 49.23.

(9) All functions reserved to the Commission in § 49.24

(10) All functions reserved to the Commission in § 49.25.

(11) All functions reserved to the Commission in § 49.29.

(12) All functions reserved to the Commission in § 49.30.

(b) The Commission hereby delegates, until such time as the Commission orders otherwise, the following functions to the Director of the Division of Data and to such members of the Commission staff acting under their direction as they may designate:

(1) All functions reserved to the Commission in § 49.9.

(2) All functions reserved to the Commission in § 49.10.

(c) The Director of the Division of Market Oversight, and, separately, the Director of the Division of Data may submit to the Commission for its consideration any matter that has been delegated under this section.

(d) Nothing in this section may prohibit the Commission, at its election, from exercising the authority delegated in this section.

PART 140—ORGANIZATION, FUNCTIONS, AND PROCEDURES OF THE COMMISSION

53. The authority citation for part 140 continues to read as follows:

Authority: 7 U.S.C. 2(a)(12), 12a, 13(c), 13(d), 13(e), and 16(b).

§§ 140.2, 140.11, 140.13, 140.24, 140.72, 140.73, 140.75, 140.76, 140.91, 140.92, 140.93, 140.94, 140.95, 140.96, and 140.99 [Amended]

54. For each section and paragraph indicated in the left column of the following table, remove the text in the middle column from wherever it appears in the section or paragraph, and add in its place the text indicated in the right column:

Section | Remove | Add
140.2 section heading | regional coordinator | Regional Administrator
140.2(a) | 140 Broadway, New York, New York, 10005 | 290 Broadway, 6th Floor, New York, NY 10007
140.2(b) | 525 West Monroe Street, Suite 1100, Chicago, Illinois 60661 | 77 W. Jackson Blvd., Suite 800, Chicago, IL 60604
140.2(c) | Two Emanuel Cleaver II Blvd., Suite 300, Kansas City, Missouri 64112 | 2600 Grand Blvd, Suite 210, Kansas City, MO 64108
140.2 | Regional Coordinator | Regional Administrator
140.11(a) | principal offices of the commission | Commission headquarters
140.11(a) | the Chairman, the Vice-Chairman, and | the Chairman and
140.11(b)(1) | the Commission's offices in Washington, DC | the Commission's Washington, DC headquarters
140.11(b)(1) | General Counsel or his deputy | General Counsel or their deputy
140.11(c) | Senior Commissioner or at his direction | Senior Commissioner or at their direction
140.13 | until such time as his appointment as Chairman | until such time as their appointment as Chairman
140.24(a)(4) | Executive Director or his delegee | Executive Director or their designee
140.24(a)(6) | Executive Director or his delegee | Executive Director or their designee in consultation with the General Counsel or their designee
140.72(a) | Division of Swap Dealer and Intermediary Oversight | Market Participants Division
140.72(a) | the Director of the Division of Market Oversight, the Director of the Division of Enforcement, | the Director of the Division of Market Oversight, the Director of the Division of Data, the Director of the Division of Enforcement,
140.72(a) | may designate from time to time | may designate
140.72(b) | Regional Coordinator | Regional Administrator
140.73(a) | Division of Swap Dealer and Intermediary Oversight | Market Participants Division
140.73(a) | may designate from time to time | may designate
140.73(a) | the Director of the Division of Enforcement, the Director of the Division of Market Oversight, | the Director of the Division of Enforcement, the Director of the Division of Data, the Director of the Division of Market Oversight,
140.73(b) | his or her | their
140.73(b) | Director of Market Oversight or in his or her absence each Deputy Director of the Division or for the Director of the Market Surveillance Section to release | Director of Market Oversight or in their absence each Deputy Director of the Division to release
140.75 (section heading) | Director of the Division of Clearing and Risk and Division of Swap Dealer and Intermediary Oversight | Director of the Division of Clearing and Risk and to the Director of the Market Participants Division
140.75 | Director of the Division of Clearing and Risk and Division of Swap Dealer and Intermediary Oversight | Director of the Division of Clearing and Risk and to the Director of the Market Participants Division
140.75 | acting under his or her direction as the Director may designate from time to time | acting under their direction as either Director may designate
140.75 | Director of Trading and Markets or any Commission employee designated by the Director | Director of the Division of Clearing and Risk, the Director of the Market Participants Division, or any Commission employee designated by either Director
140.75 | Director of the Division of Clearing and Risk and Division of Swap Dealer and Intermediary Oversight | Director of the Division of Clearing and Risk or the Director of the Market Participants Division
140.76(a) | Director of the Division of Clearing and Risk and Division of Swap Dealer and Intermediary Oversight, the General Counsel or any | Director of the Division of Clearing and Risk, the Director of the Market Participants Division, the General Counsel, or any Commission employee under their direction as they may designate
140.76(b) | Director of the Division of Clearing and Risk and Division of Swap Dealer and Intermediary Oversight | Director of the Division of Clearing and Risk, the Director of the Market Participants Division
140.91 (section heading) | Division of Swap Dealer and Intermediary Oversight | Market Participants Division
140.91(a) | Director of the Division of Clearing and Risk and Division of Swap Dealer and Intermediary Oversight and to such members of the Commission's staff acting under his direction as he may designate from time to time: | Director of the Division of Clearing and Risk and to the Director of the Market Participants Division and to such members of the Commission's staff acting under their direction as they may designate:
140.91(a)(13) | Any action taken pursuant to the delegation of authority under this paragraph (a)(12) shall be made with the concurrence of the General Counsel or, in his or her absence, a Deputy General Counsel | Any action taken pursuant to the delegation of authority under this paragraph (a)(13) shall be made with the concurrence of the General Counsel or, in their absence, a Deputy General Counsel.
140.91(b) | The Director of the Division of Clearing and Risk and the Director of the Division Swap Dealer and Intermediary Oversight may submit any matter which has been delegated to him or her | The Director of the Division of Clearing and Risk and the Director of the Market Participants Division may submit any matter which has been delegated to them
140.92(a) | Director of the Division of Clearing and Risk and Division of Swap Dealer and Intermediary Oversight and to such members of the Commission's staff acting under his direction as he may designate | Director of the Division of Clearing and Risk and to the Director of the Market Participants Division and to such members of the Commission's staff acting under their direction as they may designate
140.92(b) | The Director of the Division of Clearing and Risk and Division Swap Dealer and Intermediary Oversight may submit any matter which has been delegated to him | The Director of the Division of Clearing and Risk and the Director of the Market Participants Division may submit any matter which has been delegated to them
140.92(c) | Director of the Division of Clearing and Risk and Division of Swap Dealer and Intermediary Oversight | Director of the Division of Clearing and Risk and to the Director of the Market Participants Division
140.93 section heading | Division of Swap Dealer and Intermediary Oversight | Market Participants Division
140.93(a) | Director of the Division of Clearing and Risk and Division of Swap Dealer and Intermediary Oversight and to such members of the Commission's staff acting under his direction as he may designate from time to time | Director of the Division of Clearing and Risk and to the Director of the Market Participants Division and to such members of the Commission's staff acting under their direction as they may designate
140.93(b) | The Director of the Division of Clearing and Risk and Division Swap Dealer and Intermediary Oversight may submit any matter which has been delegated to him | The Director of the Division of Clearing and Risk and the Director of the Market Participants Division may submit any matter which has been delegated to them
140.93(c) | Director of the Division of Clearing and Risk and Division of Swap Dealer and Intermediary Oversight | Director of the Division of Clearing and Risk and the Director of the Market Participants Division
140.94 (section heading) | Director of the Division of Swap Dealer and Intermediary Oversight and the Director of the Division of Clearing and Risk | Director of the Market Participants Division and to the Director of the Division of Clearing and Risk
140.94(a) | Director of the Division of Swap Dealer and Intermediary Oversight and to such members of the Commission's staff acting under his or her direction as he or she may designate from time to time | Director of the Market Participants Division and to such members of the Commission's staff acting under their direction as they may designate
140.94(b) | Division of Swap Dealer and Intermediary Oversight | Market Participants Division
140.94(c) | under his or her direction as he or she may designate from time to time: | under their direction as they may designate:
140.94(d) | delegated to him or her | delegated to them
140.94(e) | Division of Swap Dealer and Intermediary Oversight | Market Participants Division
140.95(a) | Director of the Division of Clearing and Risk and Division of Swap Dealer and Intermediary Oversight and to such members of the Commission's staff acting under his direction as he may designate | Director of the Division of Clearing and Risk and to the Director of the Market Participants Division and to such members of the Commission's staff acting under their direction as they may designate
140.95(b) | Director of the Division of Clearing and Risk and Division of Swap Dealer and Intermediary Oversight may submit any matter which has been delegated to him | Director of the Division of Clearing and Risk and the Director of the Market Participants Division may submit any matter which has been delegated to them
140.95(c) | Director of the Division of Clearing and Risk and Division of Swap Dealer and Intermediary Oversight | Director of the Division of Clearing and Risk and to the Director of the Market Participants Division
140.96(a) | Director of the Division of Market Oversight or the Director's designee, | Director of the Division of Market Oversight or the Director's designee, or the Director of the Division of Data or the Director's designee,
140.96(b) | the Director of Swap Dealer and Intermediary Oversight or the Director's designee, and to the Director of the Division of Clearing and Risk or the Director's designee or the Director's designee, with the concurrence of the General Counsel or the General Counsel's designee, the authority to determine to publish, and to publish, in the Federal Register, requests for public comment on proposed exchange and self-regulatory organization rule amendments | the Director of the Market Participants Division or the Director's designee, and to the Director of the Division of Clearing and Risk or the Director's designee, with the concurrence of the General Counsel or the General Counsel's designee, the authority to determine to publish, and to publish, in the Federal Register, requests for public comment on proposed rule amendments by a derivatives clearing organization, designated contract market, swap data repository, swap execution facility, or registered futures association.
140.96(c) | Director of the Division of Swap Dealer and Intermediary Oversight or the Director of the Division of Clearing and Risk | Director of the Market Participants Division or the Director of the Division of Clearing and Risk or the Director of the Division of Data
140.96(d) | Director of the Division of Market Oversight and to the Director of the Division of Swap Dealer and Intermediary Oversight or the Director of the Division of Clearing and Risk | Director of the Division of Market Oversight or to the Director of the Market Participants Division or to the Director of the Division of Clearing and Risk or to the Director of the Division of Data
140.99(a)(5) | Division of Swap Dealer and Intermediary Oversight, the Division of Clearing and Risk or the Division of Market Oversight | Market Participants Division, the Division of Clearing and Risk, the Division of Market Oversight, the Division of Data, or the Office of the General Counsel, or any successor divisions or organizational units, as the context requires
140.99(d)(2)(ii) | Director of the Division of Swap Dealer and Intermediary Oversight | Director of the Market Participants Division
140.99(d)(2)(ii) | Director, Division of Clearing and Risk, Commodity Futures Trading Commission, Three Lafayette Centre, 1155 21st Street NW, Washington, DC 20581 | Director of the Division of Clearing and Risk at the Commission's Washington, DC headquarters.
140.99(d)(2)(iii) | Director, Division of Swap Dealer and Intermediary Oversight, Commodity Futures Trading Commission, Three Lafayette Centre, 1155 21st Street NW, Washington, DC 20581 | Director of the Market Participants Division at the Commission's Washington, DC headquarters.
140.99(d)(2)(iv) | or dsioletters@cftc.gov (for a request filed with the Division of Swap Dealer and Intermediary Oversight), as appropriate, and a properly signed paper copy of the request must be provided to the Division of Market Oversight, the Division of Clearing and Risk, or the Division of Swap Dealer and Intermediary Oversight, as appropriate, within ten days for purposes of verification of the electronic submission | or dodletters@cftc.gov (for a request filed with the Division of Data), or mpdletters@cftc.gov (for a request filed with the Market Participants Division), as appropriate, and a properly signed paper copy of the request must be provided to the Division of Market Oversight, the Division of Data, the Division of Clearing and Risk, or the Market Participants Division, as appropriate, pursuant to paragraphs (d)(2)(i) through (iii) of this section, as applicable, within ten days for purposes of verification of the electronic submission.

55. Section 140.99 is further amended by revising paragraph (d)(2)(i) to read as follows:

§ 140.99 Requests for exemptive, no-action and interpretative letters

* * * * *

(d) * * *

(2)(i)(A) A request for a letter relating to the provisions of the Act or the Commission's rules, regulations, or orders issued thereunder governing designated contract markets, registered swap execution facilities, registered swap data repositories, registered foreign boards of trade, the nature of particular transactions and whether they are exempt or excluded from being required to be traded on one of the foregoing entities, made available for trading determinations, position limits, hedging exemptions, the trading of block trades, or position aggregation treatment shall be filed with the Director, Division of Market Oversight, Commodity Futures Trading Commission, at the Commission's Washington, DC headquarters.

(B) A request for a letter regarding the form and manner of data reporting, data standards for reporting, or the content of any trade report or form to be submitted to the Commission, under Parts 15-20, 43, 45, 46, or 49, shall be filed with the Director, Division of Data at the Commission's Washington, DC headquarters.

* * * * *

PART 142—INDEMNIFICATION OF CFTC EMPLOYEES

56. The authority citation for part 142 continues to read as follows:

Authority: 7 U.S.C. 4a(j).

§ 142.2 [Amended]

57. In § 142.2(d), remove “Office of General Counsel” and add “Office of the General Counsel” in its place.

PART 144—PROCEDURES REGARDING THE DISCLOSURE OF INFORMATION AND THE TESTIMONY OF PRESENT OR FORMER OFFICERS AND EMPLOYEES IN RESPONSE TO SUBPOENAS OR OTHER DEMANDS OF A COURT

58. The authority citation for part 144 continues to read as follows:

Authority: 5 U.S.C. 301; 7 U.S.C. 4a(j) and 12a(5); 31 U.S.C. 9701, unless otherwise noted.

§§ 144.1 and 144.5 [Amended]

59. For each section and paragraph indicated in the left column of the following table, remove the text in the middle column from wherever it appears in the section or paragraph, and add in its place the text indicated in the right column:

Section | Remove | Add
144.1(b) | Three Lafayette Centre, 1155 21st Street NW, Washington, DC 20581 | at the Commission's Washington, DC headquarters.
144.1(e) | National Futures Association, 200 West Madison Street, Suite 1600, Chicago, Illinois 60606 | National Futures Association, 300 S Riverside Plaza, Suite 1800, Chicago, IL 60606
144.5(a) | Commission's office in Washington, DC | Commission's Washington, DC headquarters

PART 145—COMMISSION RECORDS AND INFORMATION

60. The authority citation for part 145 continues to read as follows:

Authority: Pub. L. 99-570, 100 Stat. 3207; Pub. L. 89-554, 80 Stat. 383; Pub. L. 90-23, 81 Stat. 54; Pub. L. 98-502, 88 Stat. 1561-1564 (5 U.S.C. 552); Sec. 101(a), Pub. L. 93-463, 88 Stat. 1389 (5 U.S.C. 4a(j)); Pub. L. 114-185, 130 Stat. 538; unless otherwise noted.

Section 145.5 is also issued under 5 U.S.C. 552, 5 U.S.C. 552b, and secs. 2(a)(11), 4b, 4f, 4g, 5a, 8a, and 17 of the Commodity Exchange Act, 7 U.S.C. 2, 4a(j), 6b, 6f, 6g, 7a, 12a, and 21, as amended, 92 Stat. 865 et seq.; secs. 2(a)(1), 4c(a)-(d), 4d, 4f, 4g, 4k, 4m, 4n, 8a, 15 and 17, Commodity Exchange Act (7 U.S.C. 2, 4, 6c(a)-(d), 6f, 6g, 6k, 6m, 6n, 12a, 19 and 21; 5 U.S.C. 552 and 552b); secs. 2(a)(11) and 8 of the Commodity Exchange Act, 7 U.S.C. 4(j) and 12 (1983); secs. 8a(5) and 19 of the Commodity Exchange Act, as amended, 7 U.S.C. 12a(5) and 23 (1982); 5 U.S.C. 552 and 552b.

Section 145.6 is also issued under 7 U.S.C. 2, 4, 6, and 12; secs. 2(a)(1), 4c, 4d, 4e, 4f, 4k, 4m, 4n, 4p, 8, 8a and 19 of the Commodity Exchange Act (7 U.S.C. 2 and 4, 6c, 6d, 6e, 6f, 6k, 6m, 6n, 6p, 12, 12a and 23 (1982)); 5 U.S.C. 552 and 552b.

Section 145.8 is also issued under 7 U.S.C. 4a(j) and 16a as amended by Pub. L. 97-444, 96 Stat. 2294 (1983), and 5 U.S.C. 552, 552a and 552b.

61. In § 145.0, revise paragraph (a) to read as follows:

§ 145.0 Definitions.

* * * * *

(a) FOIA Compliance Staff—refers to the Freedom of Information Act compliance staff assigned to respond to requests for information under the Freedom of Information Act.

* * * * *

§§ 145.2, 145.6, 145.7, 145.8, and 145.9 and Appendix A [Amended]

62. For each section and paragraph indicated in the left column of the following table, remove the text in the middle column from wherever it appears in the section or paragraph, and add in its place the text indicated in the right column:

Section | Remove | Add
145.2 | principal office of the Commission in Washington, DC | Commission's Washington, DC headquarters
145.6(b)(1) | National Futures Association, 200 West Madison Street, Suite 1600, Chicago, Illinois 60606 | National Futures Association, 300 S Riverside Plaza, Suite 1800, Chicago, IL 60606
145.7(b) | Office of General Counsel | Office of the General Counsel
145.7(c) | Office of General Counsel | Office of the General Counsel
145.7(f) | Office of General Counsel | Office of the General Counsel
145.7(g) | Office of General Counsel | Office of the General Counsel
145.7(h)(1) | Compliance Staff | FOIA compliance staff
145.7(h)(2) | Compliance Staff | FOIA compliance staff
145.7(h)(3) | Office of General Counsel | Office of the General Counsel
145.7(h)(3) | Compliance Staff | FOIA compliance staff
145.7(i)(2) | Office of General Counsel | Office of the General Counsel
145.7(i)(2) | Compliance Staff | FOIA compliance staff
145.7(i)(5) | Office of General Counsel | Office of the General Counsel
145.7(i)(6) | Compliance Staff | FOIA compliance staff
145.7(i)(6)(iii) | Compliance Staff | FOIA compliance staff
145.7(i)(7) | Office of General Counsel | Office of the General Counsel
145.7(j) | Office of General Counsel | Office of the General Counsel
145.7(j) | Compliance Staff | FOIA compliance staff
145.8 | Compliance Staff | FOIA compliance staff
145.9(d)(2) | Assistant Secretary of the Commission for FOI, Privacy and Sunshine Acts Compliance | Office of the General Counsel at the Commission's Washington, DC headquarters, Attn: FOIA compliance staff
145.9(d)(3) | Assistant Secretary of the Commission for FOI, Privacy and Sunshine Acts Compliance | FOIA compliance staff
145.9(d)(7) | Assistant Secretary | FOIA compliance staff
145.9(d)(9) | Assistant Secretary of the Commission for FOI, Privacy and Sunshine Acts Compliance or his or her designee | FOIA compliance staff
145.9(d)(9) | Assistant Secretary or his or her designee | FOIA compliance staff
145.9(e)(1) | Assistant Secretary or his or her designee | FOIA compliance staff
145.9(e)(1) | Assistant Secretary of the Commission for FOI, Privacy and Sunshine Acts Compliance | FOIA compliance staff
145.9(f)(1) | Assistant Secretary of the Commission for FOI, Privacy and Sunshine Acts compliance or his or her designee | FOIA compliance staff
145.9(f)(2) | Assistant Secretary or his or her designee | FOIA compliance staff
145.9(f)(3) | Assistant Secretary or his or her designee | FOIA compliance staff
145.9(g)(3) | Office of General Counsel | Office of the General Counsel
145.9(g)(3) | Assistant Secretary of the Commission for FOI, Privacy and Sunshine Acts compliance | FOIA compliance staff
145.9(g)(5) | Office of General Counsel | Office of the General Counsel
145.9(g)(7) | Office of General Counsel | Office of the General Counsel
145.9(g)(8) | Assistant Secretary of the Commission for FOI, Privacy and Sunshine Acts Compliance | FOIA compliance staff
145.9(g)(10) | The General Counsel or his or here designee | The General Counsel or their designee
145.9(h) | Assistant Secretary of the Commission for FOI, Privacy and Sunshine Acts Compliance | FOIA compliance staff
Appendix A introductory text | Three Lafayette Centre, 1155 21st Street NW, Washington, DC 20581 | the Commission's Washington, DC headquarters
Appendix A (a) (heading) | Office of External Affairs | Office of Public Affairs
Appendix A, (d) (heading) | Executive Director, Administrative Services Section | Chief Administrative Officer, Division of Administration
Appendix A, (g) (heading) | Division of Swap Dealer and Intermediary Oversight | Market Participants Division
Appendix A, (g) | National Futures Association, 200 West Madison Street, Suite 1600, Chicago, Illinois 60606 | National Futures Association, 300 S Riverside Plaza, Suite 1800, Chicago, IL 60606

63. Section 145.6 is further amended by revising paragraph (a) to read as follows:

§ 145.6 Commission offices to contact for assistance; registration records available.

(a) All requests for non-public records shall be made in writing and shall be addressed or otherwise directed to the Office of the General Counsel at the Commission's Washington, DC headquarters, Attn: FOIA Request, or electronically via foiasubmissions@cftc.gov. Requests for public records directed to a regional office of the Commission pursuant to § 145.2 should be sent to the Eastern Regional Office, Central Regional Office, or Southwestern Regional Office, as applicable.

* * * * *

PART 146—RECORDS MAINTAINED ON INDIVIDUALS

64. The authority citation for part 146 continues to read as follows:

Authority: 88 Stat. 1896 (5 U.S.C. 552a), as amended; 88 Stat. 1389 (7 U.S.C. 4a(j)).

65. In § 146.2, revise paragraph (c) to read as follows:

§ 146.2 Definitions.

* * * * *

(c) The term FOIA compliance staff refers to the Freedom of Information Act compliance staff assigned to respond to requests for information under the Freedom of Information Act;

* * * * *

§§ 146.3, 146.4, 146.5, 146.6, 146.8, 146.9, and 146.11 and Appendix A [Amended]

66. For each section and paragraph indicated in the left column of the following table, remove the text in the middle column from wherever it appears in the section or paragraph, and add in its place the text indicated in the right column:

Section | Remove | Add
146.3(a) | pertaining to him | pertaining to them
146.3(a) | FOI, Privacy and Sunshine Acts compliance staff, Office of the Secretariat, Commodity Futures Trading Commission, Three Lafayette Centre, 1155 21st Street NW, Washington, DC 20581 | FOIA compliance staff in the Office of the General Counsel at the Commission's Washington, DC headquarters and clearly marked “Privacy Act request.”
146.4(b) | Executive Director | General Counsel
146.4(b) | his identity | their identity
146.4(b) | he is familiar with and understands | they are familiar with and understand
146.4(b) | FOI, Privacy and Sunshine Acts compliance staff, Office of the Secretariat, Commodity Futures Trading Commission, Three Lafayette Centre, 1155 21st Street NW, Washington, DC 20581 | FOIA compliance staff in the Office of the General Counsel at the Commission's Washington, DC headquarters and clearly marked “Privacy Act request.”
146.5(e) | FOI, Privacy and Sunshine Acts compliance staff, Office of the Secretariat | FOIA compliance staff
146.5(f) | FOI, Privacy and Sunshine Acts compliance staff, Office of the Secretariat, Commodity Futures Trading Commission, Three Lafayette Centre, 1155 21st Street NW, Washington, DC 20581 | FOIA compliance staff in the Office of the General Counsel at the Commission's Washington, DC headquarters and clearly marked “Privacy Act request.”
146.6(d) | FOI, Privacy and Sunshine Acts compliance staff, Office of the Secretariat, Commodity Futures Trading Commission, Three Lafayette Centre, 1155 21st Street NW, Washington, DC 20581, | FOIA compliance staff in the Office of the General Counsel at the Commission's Washington, DC headquarters,
146.8(a) | pertaining to him | pertaining to them
146.8(a) | under his name | under their name
146.8(a) | if he believes | if they believe
146.8(a) | the FOI, Privacy and Sunshine Acts compliance staff, Office of the Secretariat, Commodity Futures Trading Commission, Three Lafayette Centre, 1155 21st Street NW, Washington, DC 20581 | the FOIA compliance staff at the Commission's Washington, DC headquarters.
146.8(d) | FOI, Privacy and Sunshine Acts compliance staff, Office of the Secretariat, Commodity Futures Trading Commission, Three Lafayette Centre, 1155 21st Street NW, Washington, DC 20581 | Chief Privacy Officer at the Commission's Washington, DC headquarters.
146.8(e) | Executive Director | General Counsel
146.8(f) | Executive Director | General Counsel
146.8(g) | Executive Director | General Counsel
146.8(h) | Executive Director | General Counsel
146.9(c) | FOI, Privacy and Sunshine Acts compliance staff, Office of the Secretariat, Commodity Futures Trading Commission, Three Lafayette Centre, 1155 21st Street NW, Washington, DC 20581 | General Counsel, Office of the General Counsel at the Commission's Washington, DC headquarters.
146.9(d) | FOI, Privacy and Sunshine Acts compliance staff, Office of the Secretariat | General Counsel
146.9(e)(3) | FOI, Privacy and Sunshine Acts compliance staff, Office of the Secretariat | Chief Privacy Officer
146.11(b) | FOI, Privacy and Sunshine Acts compliance staff, Office of the Secretariat, Commodity Futures Trading Commission, Three Lafayette Centre, 1155 21st Street NW, Washington, DC 20581 | Chief Privacy Officer at the Commission's Washington, DC headquarters.
Appendix A, (5)b. | FOI, Privacy and Sunshine Acts compliance staff, Office of Secretariat, Commodity Futures Trading Commission, Three Lafayette Centre, 1155 21st Street NW, Washington, DC 20581 | FOIA compliance staff at the Commission's Washington, DC headquarters.

PART 147—OPEN COMMISSION MEETINGS

67. The authority citation for part 147 continues to read as follows:

Authority: Sec. 3(a), Pub. L. 94-409, 90 Stat. 1241 (5 U.S.C. 552b); sec. 101(a)(11), Pub. L. 93-463, 88 Stat. 1391 (7 U.S.C. 4a(j) (Supp. V, 1975)), unless otherwise noted.

68. In § 147.2, revise paragraph (g) to read as follows:

§ 147.2 Definitions.

* * * * *

(g) The term FOIA Compliance staff refers to the Freedom of Information Act Compliance Staff assigned to respond to requests for information under the Freedom of Information Act.

§§ 147.4, 147.5, 147.6, 147.8, and 147.9 [Amended]

69. For each section and paragraph indicated in the left column of the following table, remove the text in the middle column from wherever it appears in the section or paragraph, and add in its place the text indicated in the right column:

Section | Remove | Add
147.4(d)(1) | , Commodity Futures Trading Commission, Three Lafayette Centre, 1155 21st Street NW, Washington, DC 20581 | at the Commission's Washington, DC headquarters
147.5(h) | offices of the FOI, Privacy and Sunshine Acts compliance staff, Office of the Secretariat, Commodity Futures Trading Commission, Three Lafayette Centre, 1155 21st Street NW, Washington, DC 20581 | Office of the Secretariat at the Commission's Washington, DC headquarters.
147.5(i) | offices of the FOI, Privacy and Sunshine Acts compliance staff, Office of the Secretariat, Commodity Futures Trading Commission, Three Lafayette Centre, 1155 21st Street NW, Washington, DC 20581 | Office of the Secretariat at the Commission's Washington, DC headquarters.
147.6(c) | offices of the FOI, Privacy and Sunshine Acts compliance staff, Office of the Secretariat, Commodity Futures Trading Commission, Three Lafayette Centre, 1155 21st Street NW, Washington, DC 20581 | Office of the Secretariat at the Commission's Washington, DC headquarters.
147.8(a) | offices of the FOI, Privacy and Sunshine Acts compliance staff, Office of the Secretariat, Commodity Futures Trading Commission, Three Lafayette Centre, 1155 21st Street NW, Washington, DC 20581 | Office of the Secretariat at the Commission's Washington, DC headquarters.
147.8(b)(1) | Assistant Secretary of the Commission for FOI, Privacy and Sunshine Acts compliance after due consultation with the Office of the Commission's General Counsel and the Director of any affected staff division | Office of the General Counsel in consultation with the Director of any affected staff division
147.9(b) | FOI, Privacy and Sunshine Acts compliance staff, Office of the Secretariat, Commodity Futures Trading Commission, Three Lafayette Centre, 1155 21st Street NW, Washington, DC 20581 | Office of the Secretariat at the Commission's Washington, DC headquarters.

PART 148—IMPLEMENTATION OF THE EQUAL ACCESS TO JUSTICE ACT IN COVERED ADJUDICATORY PROCEEDINGS BEFORE THE COMMISSION

70. The authority citation for part 148 continues to read as follows:

Authority: Equal Access to Justice Act, 5 U.S.C. 504(c)(1) and secs. 2(a)(11) and 8a(5) of the Commodity Exchange Act, 7 U.S.C. 4a(j) and 12a(5), unless otherwise noted.

§ 148.30 [Amended]

71. In § 148.30, remove “Executive Director of the Commission, Three Lafayette Centre, 1155 21st Street NW, Washington, DC 20581,” and add “Executive Director at the Commission's Washington, DC headquarters,” in its place.

PART 149—ENFORCEMENT OF NONDISCRIMINATION ON THE BASIS OF HANDICAP IN PROGRAMS OR ACTIVITIES CONDUCTED BY THE COMMODITY FUTURES TRADING COMMISSION

72. The authority citation for part 149 continues to read as follows:

Authority: 29 U.S.C 794, unless otherwise noted.

§ 149.170 [Amended]

73. In § 149.170(c), remove “Equal Employment Opportunity Officer, Commodity Futures Trading Commission, Three Lafayette Centre, 1155 21st Street NW, Washington, DC 20581” and add “Equal Employment Opportunity Officer at the Commission's Washington, DC headquarters” in its place.

PART 150—LIMITS ON POSITIONS

74. The authority citation for part 150 continues to read as follows:

Authority: 7 U.S.C. 1a, 2, 5, 6, 6a, 6c, 6f, 6g, 6t, 12a, and 19, as amended by Title VII of the Dodd-Frank Wall Street Reform and Consumer Protection Act, Pub. L. 111-203, 124 Stat. 1376 (2010).

§ 150.4 [Amended]

75. For each paragraph indicated in the left column of the following table, remove the text in the middle column from wherever it appears in the section or paragraph, and add in its place the text indicated in the right column:

Section | Remove | Add
150.4(e)(1) | may designate from time to time | may designate
150.4(e)(2) | may designate from time to time | may designate
150.4(e)(2) | Office of Data and Technology | Division of Data
150.4(e)(3) | Office of Data and Technology | Division of Data

PART 155—TRADING STANDARDS

76. The authority citation for part 155 continues to read as follows:

Authority: 7 U.S.C. 6b, 6c, 6g, 6j and 12a, unless otherwise noted.

§§ 155.3 and 155.4 [Amended]

77. For each paragraph indicated in the left column of the following table, remove the text in the middle column from wherever it appears in the section or paragraph, and add in its place the text indicated in the right column:

Section | Remove | Add
155.2(i)(2) | insured | ensured
155.2(i)(2) | insure | ensure
155.3(a)(1) | Insure | Ensure
155.4(a)(1) | Insure | Ensure

PART 160—PRIVACY OF CONSUMER FINANCIAL INFORMATION UNDER TITLE V OF THE GRAMM-LEACH-BLILEY ACT

78. The authority citation for part 160 continues to read as follows:

Authority: 7 U.S.C. 7b-2 and 12a(5); 15 U.S.C 6801, et seq., and sec. 1093, Pub. L. 111-203, 124 Stat. 1376.

§ 160.30 [Amended]

79. In § 160.30(a), remove “Insure” and add “Ensure” in its place.

PART 162—PROTECTION OF CONSUMER INFORMATION UNDER THE FAIR CREDIT REPORTING ACT

80. The authority citation for part 162 continues to read as follows:

Authority: Sec. 1088, Pub. L. 111-203; 124 Stat. 1376 (2010).

§ 162.21 [Amended]

81. In § 162.21(a)(1), remove “Insure” and add “Ensure” in its place.

PART 165—

82. The authority citation for part 165 continues to read as follows:

Authority: 7 U.S.C. 2, 5, 9, 12a(5), 13a, 13a-1, 13b, and 26.

§§ 165.3, 165.7, 165.12, 165.15, and Appendix B [Amended]

83. For each section and paragraph indicated in the left column of the following table, remove the text in the middle column from wherever it appears in the section or paragraph, and add in its place the text indicated in the right column:

Section | Remove | Add
165.3(a)(2) | Commission, Three Lafayette Centre, 1155 21st Street NW, Washington, DC 20581 | Whistleblower Office at the Commission's Washington, DC headquarters.
165.7(b)(1) | to the Commission by mail or fax to Commodity Futures Trading Commission, Three Lafayette Centre, 1155 21st Street NW, Washington, DC 20581, | by mail or fax to the Whistleblower Office at the Commission's Washington, DC headquarters,
165.12(c) | Office of Customer Education and Outreach | Office of Public Affairs.
165.15(a)(2) | Office of General Counsel | Office of the General Counsel
Appendix B under Submission Procedures heading | Three Lafayette Centre, 1155 21st Street NW, Washington, DC 20581 | at the Commission's Washington, DC headquarters
Appendix B, under Submission Procedures heading | Three Lafayette Centre, 1155 21st Street NW, Washington, DC 20581 | at the Commission's Washington, DC headquarters

PART 170—REGISTERED FUTURES ASSOCIATIONS

84. The authority citation for part 170 continues to read as follows:

Authority: 7 U.S.C. 6d, 6m, 6p, 6s, 12a, and 21.

§§ 170.11 and 170.12 [Amended]

85. For each paragraph indicated in the left column of the following table, remove the text in the middle column from wherever it appears in the section or paragraph, and add in its place the text indicated in the right column:

Section | Remove | Add
170.11(a)(5) | Three Lafayette Centre, 1155 21st Street NW, Washington, DC 20581 | the Commission's DC headquarters
170.12 (section heading) | Division of Swap Dealer and Intermediary Oversight | Market Participants Division
170.12 | Division of Swap Dealer and Intermediary Oversight | Market Participants Division

PART 171—RULES RELATING TO REVIEW OF NATIONAL FUTURES ASSOCIATION DECISIONS IN DISCIPLINARY, MEMBERSHIP DENIAL, REGISTRATION AND MEMBER RESPONSIBILITY ACTIONS

86. The authority citation for part 171 continues to read as follows:

Authority: 7 U.S.C. 4a, 12a and 21, unless otherwise noted.

§§ 171.2, 171.3, 171.8, 171.28, and 171.31 [Amended]

87. For each section and paragraph indicated in the left column of the following table, remove the text in the middle column from wherever it appears in the section or paragraph, and add in its place the text indicated in the right column:

Section | Remove | Add
171.2(c) | Commission's Opinions Section | Office of the General Counsel's Litigation, Enforcement, and Adjudication Section
171.3 | principal office | headquarters
171.8(a) | Three Lafayette Centre, 1155 21st Street NW, Washington, DC 20581 | at the Commission's Washington, DC headquarters
171.8(b) | Three Lafayette Centre, 1155 21st Street NW, Washington, DC 20581 | at the Commission's Washington, DC headquarters
171.28 | the Division of Swap Dealer and Intermediary Oversight and the Division of Clearing and Risk or the Division of Market Oversight | the Market Participants Division, the Division of Clearing and Risk, the Division of Market Oversight, or the Division of Data
171.31(a) | the Division of Swap Dealer and Intermediary Oversight, and the Division of Clearing and Risk or the Division of Market Oversight | the Market Participants Division, the Division of Clearing and Risk, the Division of Market Oversight, or the Division of Data

Issued in Washington, DC, on August 13, 2024, by the Commission.
Robert Sidman
Deputy Secretary of the Commission.

Note: The following appendix will not appear in the Code of Federal Regulations.

Appendix to Incorporation of Changes in the Commission's Administrative Structure, Remove Superfluous Verbiage, and Correct Inaccurate Text—Voting Summary

Appendix 1—Voting Summary

On this matter, Chairman Behnam and Commissioners Johnson, and Goldsmith Romero, Mersinger, and Pham voted in the affirmative. No Commissioner voted in the negative.

[FR Doc. 2024-18445 Filed 9-3-24; 8:45 am]

BILLING CODE 6351-01-P